DEPARTMENT OF TRANSPORTATION

Federal Transit Administration

Alternative Transportation in Parks and Public Lands Program

AGENCY: Federal Transit Administration (FTA), DOT.

ACTION: Paul S. Sarbanes Transit in Parks Program Announcement of FY 2012 Project Selections.

SUMMARY: The U.S. Department of Transportation's (DOT) Federal Transit Administration (FTA) announces the selection of projects for the Paul S. Sarbanes Transit in Parks Program, as authorized by Section 3021 of the Safe, Accountable, Flexible, Efficient Transportation Equity Act—A Legacy for Users of 2005 (SAFETEA-LU) and codified in 49 U.S.C. 5320. Projects were selected from proposals submitted in response to a Notice of Funding Availability (NOFA) published in the Federal Register on August 28, 2012. These projects are funded with Fiscal Year (FY) 2012 appropriations and previously unallocated prior year funds. The Paul S. Sarbanes Transit in Parks program provides funds for capital and planning expenses for alternative transportation systems in national parks and other federal recreation lands. Federal land management agencies and State, tribal and local governments acting with the consent of a federal land management agency are eligible recipients. This program was not re-authorized for FY 2013 under the Moving Ahead for Progress in the 21st Century Act (MAP-21), and FTA does not anticipate publishing future NOFAs for this program. If additional funds become available during FY 2013 from previous project awards, FTA may allocate these funds to project proposals previously submitted.

FOR FURTHER INFORMATION CONTACT: Project sponsors who are State, local, or tribal entities may contact the appropriate FTA Regional Office (http://www.fta.dot.gov/offices) for grant-specific issues. Project sponsors who are part of a federal land management agency should work with the contact listed below at their headquarters office to coordinate the availability of funds to that unit.

• National Park Service: Mark H Hartsoe, Mark_H_Hartsoe@nps.gov; tel: 202-513-7025, fax: 202-371-6675, mail: 1849 C Street NW., (MS2420); Washington, DC 20240-0001.

• Fish and Wildlife Service: Nathan Caldwell, Nathan_Caldwell@fws.gov, tel: 703-358-2205, fax: 703-358-2517, mail: 4401 N. Fairfax Drive, Room 634; Arlington, VA 22203.

• Forest Service: Rosana Barkawi, rosanabarkawi@fs.fed.us, tel: 703-605-4509, mail: 1400 Independence Avenue SW., Washington, DC 20250-1101.

• Bureau of Land Management: Victor F. Montoya, Victor_Montoya@blm.gov, tel: 202-912-7041, mail: 1620 L Street, WO-854, Washington, DC 20036.

For general information about the Paul S. Sarbanes Transit in Parks Program, please contact Adam Schildge, Office of Program Management, Federal Transit Administration, at adam.schildge@dot.gov, 202-366-0778.

SUPPLEMENTARY INFORMATION: FTA announces the selection of projects for the Paul S. Sarbanes Transit in Parks Program for Fiscal Year (FY) 2012. Congress appropriated $26,900,000 for FTA's Paul S. Sarbanes Transit in Parks program for FY 2012. Of this amount, $13,382,750 was allocated to projects in January 2012 in response to a NOFA published in the Federal Register on March 10, 2011. Of the remaining amount, $1,750,000 has been allocated to continue the operation of the Transit in Parks Technical Assistance Center for an additional year, $500,000 will be administered cooperatively with the Federal Highway Administration (FHWA) in order to support the coordination of Federal land management agency transportation investments with public transportation systems that operate in the vicinity of Federal lands, and $134,500 is reserved for program oversight activities. In addition to the remaining $11,132,750 from FY 2012, $1,365,171 is available for project awards from unallocated prior year funds. As a result, the total amount available for project awards in response to the August 28, 2012 NOFA is $12,497,921.

A total of 89 applicants submitted eligible proposals for a combined total of $62.8 million. A joint review committee of the U.S. Department of Interior, the U.S. Department of Agriculture's Forest Service and DOT evaluated the project proposals based on the criteria defined in 49 U.S.C. 5320(g)(2). Final selections were made through a collaborative process.

The goals of the program are to conserve natural, historical, and cultural resources; reduce congestion and pollution; improve visitor mobility and accessibility; enhance visitor experience; and ensure access to all, including persons with disabilities, through alternative transportation projects. A total of 29 projects located in 20 States and affiliated with five Federal land management agencies were selected to receive a combined total of $12,497,921. The projects selected to use FY 2012 funding represent a diverse set of capital and planning projects across the country, ranging from shuttle bus purchases to the construction of ferry dock infrastructure, and are listed in Table 1.

Applying for Funds

Recipients who are State or local government entities will be required to apply for Paul S. Sarbanes Transit in Parks program funds electronically through FTA's electronic grant award and management system, TEAM. These entities are assigned discretionary project IDs as shown in Table I of this notice. The content of these grant applications must reflect the approved proposal. (Note: Applications for the Paul S. Sarbanes Transit in Parks program do not require Department of Labor Certification.) Upon grant award, payments to grantees will be made by electronic transfer to the grantee's financial institution through FTA's Electronic Clearing House Operation (ECHO) system. FTA's Regional Offices are available to assist applicants.

Recipients who are federal land management agencies will be required to enter into an interagency agreement (IAA) with FTA. Agencies may also flex funding for trail projects to the FHWA Federal Lands Highway Program. Consistent with section 9.5.2(a) of the “Department of Transportation Financial Management Policies Manual” (October 24, 2006), funds awarded to Federal land management agencies through interagency agreements remain available for a period of five years from execution of the agreement. Individual units of federal land management agencies should work with the contact at their headquarters office listed above to coordinate the availability of funds to that unit.

Program Requirements

Section 5320 requires funding recipients to meet certain requirements. Requirements that reflect existing statutory and regulatory provisions can be found in the document “Alternative Transportation in Parks and Public Lands Program: Requirements for Recipients” available at www.fta.dot.gov/transitinparks. These requirements are incorporated into the grant agreements and inter-agency agreements used to fund the selected projects.

Pre-Award Authority

Pre-award authority allows an agency that will receive a grant or interagency agreement to incur certain project costs prior to receipt of the grant or interagency agreement and retain eligibility of the costs for subsequent reimbursement after the grant or agreement is approved. The recipient assumes all risk and is responsible for ensuring that all conditions are met to retain eligibility, including compliance with Federal requirements such as the National Environmental Policy Act (NEPA), planning requirements, and provisions established in the grant contract or Interagency Agreement. Under the authority provided in 49 U.S.C. 5320(h), FTA is extends pre-award authority for FY 2012 Paul S. Sarbanes Transit in Parks projects announced in this notice effective February 18, 2013 when the projects were publicly announced, and the basis the below conditions have been met.

The conditions under which pre-award authority may be utilized are specified below:

a. Pre-award authority is not a legal or implied commitment that the project(s) will be approved for FTA assistance or that FTA will obligate Federal funds for the project. Furthermore, it is not a legal or implied commitment that all items undertaken by the applicant will be eligible for inclusion in the project(s).

b. All FTA statutory, procedural, and contractual requirements must be met.

c. No action will be taken by the grantee that prejudices the legal and administrative findings that the Federal Transit Administrator must make in order to approve a project.

d. Local funds expended pursuant to this pre-award authority will be eligible for reimbursement if FTA later makes a grant or interagency agreement for the project(s). Local funds expended by the grantee prior to the February 18, 2013 public announcement will not be eligible for credit toward local match or reimbursement. Furthermore, the expenditure of local funds on activities such as, demolition, or construction, prior to the completion of the NEPA process, would compromise FTA's ability to comply with Federal environmental laws and may render the project ineligible for FTA funding.

e. When a grant for the project is subsequently awarded, the Financial Status Report in TEAM-Web must indicate the use of pre-award authority, and the pre-award item in the project information section of TEAM should be marked “yes.”

Reporting Requirements

All recipients must submit quarterly reports to FTA containing the following information:

(1) Narrative description of project(s); and,

(2) discussion of all budget and schedule changes.

The headquarters office for each federal land management agency should collect a quarterly report for each of the projects delineated in the interagency agreement and then send these reports (preferably by email) to Adam Schildge, FTA, mailto: adam.schildge@dot.gov; 1200 New Jersey Avenue, Washington, DC 20590. Examples can be found on the program Web site at http://www.fta.dot.gov/transitinparks. State, local and tribal governments will provide this information to FTA via the TEAM-Web system for projects that are funded through FTA grants.

The quarterly reports are due to FTA on the dates noted below:

Quarter | Covering | Due date
1st Quarter Report | October 1-December 31 | January 31.
2nd Quarter Report | January 1-March 31 | April 30.
3rd Quarter Report | April 1-June 30 | July 31.
4th Quarter Report | July 1-September 31 | October 31.

In order to allow FTA to compute aggregate program performance measures FTA requires that all recipients of funding for capital projects under the Paul S. Sarbanes Transit in Parks program submit the following information as a part of their fourth quarter report:

■ Annual visitation to the relevant land unit;

■ annual number of persons who use the alternative transportation system (ridership/usage);

■ an estimate of the number of vehicle trips mitigated based on alternative transportation system usage and the typical number of passengers per vehicle;

■ cost per passenger; and,

■ a note of any special services offered for those systems with higher costs per passenger but more amenities.

Oversight

Recipients of FY 2012 Paul S. Sarbanes Transit in Parks program funds will be required to certify that they will comply with all applicable Federal and FTA programmatic requirements. FTA direct grantees will complete this certification as part of the annual Certification and Assurances package, and Federal Land Management Agency recipients will complete the certification by signing the interagency agreement. This certification is the basis for oversight reviews conducted by FTA.

The Secretary of Transportation and FTA have elected not to apply the triennial review requirements of 49 U.S.C. 5307(h)(2) to Paul S. Sarbanes Transit in Parks program recipients that are other Federal agencies. Instead, working with the existing oversight systems at the Federal Land Management Agencies, FTA will perform periodic reviews of specific projects funded by the Paul S. Sarbanes Transit in Parks program. These reviews will ensure that projects meet the basic statutory, administrative, and regulatory requirements as stipulated by this notice and the certification. To the extent possible, these reviews will be coordinated with other reviews of the project. FTA direct grantees of Paul S. Sarbanes Transit in Parks program funds (State, local and tribal government entities) will be subject to all applicable triennial, State management, civil rights, and other reviews.

Issued in Washington, DC, this 8th day of April 2013.
Peter Rogoff,
Administrator.

BILLING CODE P

[FR Doc. 2013-08653 Filed 4-11-13; 8:45 am]

BILLING CODE C